DEPARTMENT OF THE INTERIOR

National Park Service

National Register of Historic Places; Notification of Pending Nominations

Nominations for the following properties being considered for listing in the National Register were received by the National Park Service before September 20, 2003.

Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by October 21, 2003.

Carol D. Shull,
Keeper of the National Register of Historic Places.

ARKANSAS

Garland County

Fordyce—Ricks House Historic District, 1501 Park Ave., Hot Springs, 03001098

GEORGIA

Fulton County

Piedmont Park Apartments, 266 11th St., Atlanta, 03001104

OHIO

Butler County

Spread Eagle Tavern—Conrey, James D., House, 9797 Cincinnati-Columbus Rd., Cincinnati, 03001100

Cuyahoga County

Corlett Building, 1923-35 Euclid Ave., Cleveland, 03001101

National Town and Country Club, 2401 Euclid Ave., Cleveland, 03001102

Greene County

C. N. & I. Department Power House, Central State University Campus, Wilberforce, 03001099

TEXAS

Travis County

Oakland Cemetery Annex, (East Austin MRA) 1601 Comal St., Austin, 03001103

WYOMING

Park County

Absaroka Mountain Lodge, (Dude Ranches along the Yellowstone Highway in the Shoshone National Forest) 1231 North Fork Hwy, Cody, 03001105

Elephant Head Lodge, (Dude Ranches along the Yellowstone Highway in the Shoshone National Forest) 1170 North Fork Hwy., Cody, 03001107

Goff Creek Lodge, (Dude Ranches along the Yellowstone Highway in the Shoshone National Forest) 995 E. Yellowstone Hwy., Cody, 03001108

Red Star Lodge and Sawmill, (Dude Ranches along the Yellowstone Highway in the Shoshone National Forest) 349 Yellowstone Hwy., Cody, 03001106

[FR Doc. 03-25210 Filed 10-3-03; 8:45 am]

BILLING CODE 4312-51-P